FEDERAL COMMUNICATIONS COMMISSION

[OMB 3060-0625; FR ID 224730]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before August 12, 2024. If you anticipate that you will be submitting comments but find it difficult to do so within the period of time allowed by this notice, you should advise the contacts below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-0625.

Title: Section 24.103, Construction requirements.

Form No.: N/A.

Type of Review: Extension of a currently-approved collection.

Respondents: Business or other for-profit, individuals or household, not-for-profit institutions, and State, local or Tribal government.

Number of Respondents and Responses: 6 respondents and 6 responses.

Estimated Time per Response: 0.5-1.5 hours.

Frequency of Response: Recordkeeping requirement, On occasion reporting requirement, 5 and 10 year reporting requirements.

Obligation to Respond: To ensure that licensees timely construct systems that either provide coverage to minimum geographic portions of their licensed areas, that provide service to minimum percentages of the population of those areas, or that, in the alternative, provide service that is sound, favorable, and substantially above a level of mediocre service that would barely warrant renewal.

Total Annual Burden: 6 hours.

Annual Cost Burden: $1,238.

Needs and Uses: The information collection requirements contained in Section 24.103 require that certain narrowband PCS licensees notify Commission at specific benchmarks that they are in compliance with applicable construction requirements in order to ensure that these licensees quickly construct their systems and that, with those systems, they provide, within their respective licensed areas: Coverage to minimum geographic areas, service to minimum percentages of the population, or “substantial service” within ten years after license grant. The Commission is not currently collecting information from narrowband PCS licensees under Section 24.103 and does not expect to do so during the three year period for which it seeks extension of its current collection authority under that section. However, following the future auction of new narrowband PCS licenses, the reporting and recordkeeping requirements under this section will be used to satisfy the Commission's rule that such licensees demonstrate compliance with these construction requirements by the 5 and 10-year benchmarks established upon the grant date of each license. Without this information, the Commission would not be able to carry out its statutory responsibilities.

Federal Communications Commission.
Marlene Dortch,
Secretary, Office of the Secretary.

[FR Doc. 2024-12816 Filed 6-11-24; 8:45 am]

BILLING CODE 6712-01-P